DEPARTMENT OF ENERGY

Federal Energy Regulatory Commission

Sunshine Act Meeting

March 22, 2000.

The following notice of meeting is published pursuant to Section 3(A) of the government in the Sunshine Act (Pub. L. No. 94-409), 5 U.S.C 552B:

AGENCY HOLDING MEETING: Federal Energy Regulatory Commission.

DATE AND TIME: March 29, 2000, 10:00 a.m.

PLACE: Room 2C, 888 First Street, N.E., Washington, D.C. 20426.

STATUS: Open.

MATTERS TO BE CONSIDERED: Agenda * Note—Items listed on the agenda may be deleted without further notice.

CONTACT PERSON FOR MORE INFORMATION: David P. Boergers, Secretary, Telephone (202) 208-0400, for a Recording listing items stricken from or added to the meeting, call (202) 208-1627.

This is a list of matters to be considered by the commission. It does not include a listing of all papers relevant to the items on the agenda; However all public documents may be examined in the Reference and Information Center.

Consent Agenda—Hydro; 737th—Meeting March 29, 2000; Regular Meeting (10:00 a.m.)

CAH-1.

DOCKET# P-1927, 013, PACIFICORP

CAH-2.

DOCKET# P-2197, 036, YADKIN, INC.

CAH-3.

DOCKET# P-11634, 000, CONTINENTAL LANDS, INC.

CAH-4.

DOCKET# P-7041, 043, POTTER TOWNSHIP HYDROELECTRIC AUTHORITY

Consent Agenda—Electric

CAE-1.

DOCKET# ER00-1239, 000, CALIFORNIA INDEPENDENT SYSTEM OPERATOR CORPORATION

CAE-2.

DOCKET# ER00-1483, 000, NEW YORK INDEPENDENT SYSTEM OPERATOR, INC., CENTRAL HUDSON GAS & ELECTRIC CORPORATION, CONSOLIDATED EDISON COMPANY OF NEW YORK, INC., NEW YORK STATE ELECTRIC AND GAS CORPORATION, NIAGARA MOHAWK POWER CORPORATION, ORANGE AND ROCKLAND UTILITIES INC. AND ROCHESTER GAS AND ELECTRIC CORPORATION

CAE-3.

DOCKET# ER00-1411, 000, ILLINOIS POWER COMPANY

CAE-4.

DOCKET# ER00-1404, 000, WEST TEXAS UTILITIES COMPANY AND CENTRAL AND SOUTH WEST SERVICES, INC.

CAE-5.

DOCKET# ER00-1379, 000, AMEREN SERVICES COMPANY

OTHER#S ER00-1386, 000, AMEREN SERVICES COMPANY

ER00-1387 000, AMEREN SERVICES COMPANY

CAE-6.

DOCKET# ER00-1519 000, INPOWER MARKETING CORPORATION

CAE-7.

DOCKET# ER00-1030, 000, AMERGEN VERMONT, LLC

OTHER S

EL00-33, 000, AMERGEN VERMONT, LLC

EL00-38, 000, LOUISIANA GENERATING, LLC

ER00-1259, 000, LOUISIANA GENERATING, LLC

ER00-1463, 000, ORION POWER MIDWEST, LLC

ER00-1502, 000, BONNIE MINE ENERGY, LLC

ER00-1517, 000, SAN JOAQUIN COGEN LIMITED

ER00-1598, 000, BALTIMORE GAS AND ELECTRIC COMPANY, CALVERT CLIFFS, INC., CONSTELLATION GENERATION, INC. AND CONSTELLATION POWER SERVICE, INC.

CAE-8.

DOCKET# ER00-1389, 000, NEW ENGLAND POWER POOL

CAE-9.

DOCKET# ER00-1516, 000, PJM INTERCONNECTION, L.L.C.

CAE-10.

DOCKET# ER00-801, 000, TAMPA ELECTRIC COMPANY

CAE-11.

DOCKET# ER00-1580, 000, CINERGY OPERATING COMPANIES

CAE-12.

DOCKET# ER00-1572, 000, USGEN NEW ENGLAND, INC.

CAE-13.

DOCKET# ER00-941, 000, PJM INTERCONNECTION, L.L.C.

CAE-14.

DOCKET# ER00-1533, 000, NEW YORK INDEPENDENT SYSTEM OPERATOR, INC.

CAE-15.

DOCKET# ER00-1365, 000, CALIFORNIA INDEPENDENT SYSTEM OPERATOR CORPORATION

CAE-16.

DOCKET# ER00-1671, 000, NEW YORK STATE RELIABILITY COUNCIL

CAE-17.

DOCKET# ER99-3110, 000, NEVADA POWER COMPANY

CAE-18.

OMITTED

CAE-19.

DOCKET# ER00-395, 002, ISO NEW ENGLAND, INC.

OTHER#S ER00-395, 001, ISO NEW ENGLAND, INC.

CAE-20.

DOCKET# EC99-81, 001, DOMINION RESOURCES, INC.

CAE-21.

DOCKET# ER00-1439, 000, AUTOMATED POWER EXCHANGE, INC.

CAE-22.

DOCKET# ER99-897, 000, CENTRAL POWER AND LIGHT COMPANY, WEST TEXAS UTILITIES COMPANY, PUBLIC SERVICE COMPANY OF OKLAHOMA AND SOUTHWESTERN ELECTRIC POWER COMPANY

CAE-23.

DOCKET# ER99-2852, 000, ARIZONA PUBLIC SERVICE COMPANY

CAE-24.

DOCKET# EC00-45, 000, WISCONSIN ELECTRIC POWER COMPANY

CAE-25.

DOCKET# EC00-33, 000, WISCONSIN POWER & LIGHT COMPANY

CAE-26.

DOCKET# EC00-29, 000, ALLIANT ENERGY CORPORATE SERVICES, INC.

CAE-27.

DOCKET# EC00-1, 000, ENERGY EAST CORPORATION AND CMP GROUP, INC.

CAE-28.

DOCKET# EC00-48, 000, CAJUN ELECTRIC POWER COOPERATIVE, INC. AND LOUISIANA GENERATING LLC

CAE-29.

DOCKET# ER99-4545, 002, CALIFORNIA INDEPENDENT SYSTEM OPERATOR CORPORATION

OTHER#S ER99-4545, 003, CALIFORNIA INDEPENDENT SYSTEM OPERATOR CORPORATION

CAE-30.

DOCKET# ER97-1523, 020, NEW YORK INDEPENDENT SYSTEM OPERATOR, INC., CENTRAL HUDSON GAS & ELECTRIC CORPORATION, CONSOLIDATED EDISON COMPANY OF NEW YORK, INC., NEW YORK STATE ELECTRIC AND GAS CORPORATION, NIAGARA MOHAWK POWER CORPORATION, ORANGE AND ROCKLAND UTILITIES, INC., ROCHESTER GAS AND ELECTRIC CORPORATION AND NEW YORK POWER POOL

OTHER#S OA97-470, 019, NEW YORK INDEPENDENT SYSTEM OPERATOR, INC., CENTRAL HUDSON GAS & ELECTRIC CORPORATION, CONSOLIDATED EDISON COMPANY OF NEW YORK, INC., NEW YORK STATE ELECTRIC AND GAS CORPORATION, NIAGARA MOHAWK POWER CORPORATION, ORANGE AND ROCKLAND UTILITIES INC., ROCHESTER GAS AND ELECTRIC CORPORATION AND NEW YORK POWER POOL

OA97-470, 020, NEW YORK INDEPENDENT SYSTEM OPERATOR, INC., CENTRAL HUDSON GAS & ELECTRIC CORPORATION, CONSOLIDATED EDISON COMPANY OF NEW YORK, INC., NEW YORK STATE ELECTRIC AND GAS CORPORATION, NIAGARA MOHAWK POWER CORPORATION, ORANGE AND ROCKLAND UTILITIES INC., ROCHESTER GAS AND ELECTRIC CORPORATION AND NEW YORK POWER POOL

ER97-1523, 021, NEW YORK INDEPENDENT SYSTEM OPERATOR, INC., CENTRAL HUDSON GAS & ELECTRIC CORPORATION, CONSOLIDATED EDISON COMPANY OF NEW YORK, INC., NEW YORK STATE ELECTRIC AND GAS CORPORATION, NIAGARA MOHAWK POWER CORPORATION, ORANGE AND ROCKLAND UTILITIES INC., ROCHESTER GAS AND ELECTRIC CORPORATION AND NEW YORK POWER POOL

ER97-4234, 017, NEW YORK INDEPENDENT SYSTEM OPERATOR, INC., CENTRAL HUDSON GAS & ELECTRIC CORPORATION, CONSOLIDATED EDISON COMPANY OF NEW YORK, INC., NEW YORK STATE ELECTRIC AND GAS CORPORATION, NIAGARA MOHAWK POWER CORPORATION, ORANGE AND ROCKLAND UTILITIES INC., ROCHESTER GAS AND ELECTRIC CORPORATION AND NEW YORK POWER POOL

ER97-4234, 018, NEW YORK INDEPENDENT SYSTEM OPERATOR, INC., CENTRAL HUDSON GAS & ELECTRIC CORPORATION, CONSOLIDATED EDISON COMPANY OF NEW YORK, INC., NEW YORK STATE ELECTRIC AND GAS CORPORATION, NIAGARA MOHAWK POWER CORPORATION, ORANGE AND ROCKLAND UTILITIES INC., ROCHESTER GAS AND ELECTRIC CORPORATION AND NEW YORK POWER POOL

CAE-31.

OMITTED

CAE-32.

DOCKET# ER00-550, 001, NEW YORK INDEPENDENT SYSTEM OPERATOR, INC., CENTRAL HUDSON GAS & ELECTRIC CORPORATION, CONSOLIDATED EDISON COMPANY OF NEW YORK, INC., NEW YORK STATE ELECTRIC & GAS CORPORATION, NIAGARA MOHAWK POWER CORPORATION, ORANGE AND ROCKLAND UTILITIES, INC. AND ROCHESTER GAS AND ELECTRIC CORPORATION

OTHER#S ER00-556, 001, NEW YORK INDEPENDENT SYSTEM OPERATOR, INC., CENTRAL HUDSON GAS & ELECTRIC CORPORATION, CONSOLIDATED EDISON COMPANY OF NEW YORK, INC., NEW YORK STATE ELECTRIC & GAS CORPORATION, NIAGARA MOHAWK POWER CORPORATION, ORANGE AND ROCKLAND UTILITIES, INC. AND ROCHESTER GAS AND ELECTRIC CORPORATION

CAE-33.

DOCKET# ER00-950, 001, CALIFORNIA POWER EXCHANGE CORPORATION

CAE-34.

DOCKET# RM99-12, 000, DESIGNATION OF ELECTRIC RATE SCHEDULE SHEETS

CAE-35.

DOCKET# EL99-91, 000, PACIFIC GAS AND ELECTRIC COMPANY

CAE-36.

DOCKET# EL99-58, 000, VILLAGE OF FREEPORT, NEW YORK V. CONSOLIDATED EDISON COMPANY OF NEW YORK

CAE-37.

DOCKET# EG00-89, 000, LOUISIANA GENERATING LLC

CAE-38.

DOCKET# OA00-1, 000, NEW ENGLAND POWER COMPANY, MASSACHUSETTS ELECTRIC COMPANY, THE NARRAGANSETT ELECTRIC COMPANY, NEW ENGLAND ELECTRIC TRANSMISSION CORPORATION, NEW ENGLAND HYDRO-TRANSMISSION CORPORATION, NEW ENGLAND HYDRO-TRANSMISSION ELECTRIC COMPANY, INC., ALLENERGY MARKETING COMPANY, L.L.C., MONTAUP ELECTRIC COMPANY, BLACKSTONE VALLEY ELECTRIC COMPANY, EASTERN EDISON COMPANY, NEWPORT ELECTRIC CORPORATION AND RESEARCH DRIVE, L.L.C.

OTHER#S ER99-2832, 001, NEW ENGLAND POWER COMPANY AND MONTAUP ELECTRIC COMPANY

CAE-39.

DOCKET# OA00-3, 000, CENTRAL ILLINOIS LIGHT COMPANY AND QST ENERGY TRADING COMPANY

CAE-40.

DOCKET# OA99-1, 000, NORTHERN STATES POWER COMPANY (MINNESOTA), NORTHERN STATES POWER COMPANY (WISCONSIN), PUBLIC SERVICE COMPANY OF COLORADO, CHEYENNE LIGHT, FUEL AND POWER COMPANY AND SOUTHWESTERN PUBLIC SERVICE COMPANY

CAE-41.

OMITTED

CAE-42.

DOCKET# ER00-866, 000, CALIFORNIA INDEPENDENT SYSTEM OPERATOR CORPORATION

Consent Agenda—Gas and Oil

CAG-1.

DOCKET# RP00-187, 000, NATIONAL FUEL GAS SUPPLY CORPORATION

CAG-2.

DOCKET# RP00-188, 000, GREAT LAKES GAS TRANSMISSION LIMITED PARTNERSHIP

CAG-3.

DOCKET# RP96-200, 051, RELIANT ENERGY GAS TRANSMISSION COMPANY

CAG-4.

DOCKET# RP00-184, 000, NATURAL GAS PIPELINE COMPANY OF AMERICA

CAG-5.

DOCKET# RP00-199, 000, RELIANT ENERGY GAS TRANSMISSION COMPANY

CAG-6.

DOCKET# RP00-183, 000, COLORADO INTERSTATE GAS COMPANY

CAG-7.

OMITTED

CAG-8.

DOCKET# RP00-195, 000, TRANSCOLORADO GAS TRANSMISSION COMPANY

CAG-9.

OMITTED

CAG-10.

DOCKET# RP00-205, 000, PG&E GAS TRANSMISSION, NORTHWEST CORPORATION

OTHER#S RP00-205, 001, PG&E GAS TRANSMISSION, NORTHWEST CORPORATION

CAG-11.

DOCKET# RP97-14, 004, MIDWESTERN GAS TRANSMISSION COMPANY

OTHER#S GT00-16, 000, MIDWESTERN GAS TRANSMISSION COMPANY

CAG-12.

DOCKET# RP00-21, 000, CNG TRANSMISSION CORPORATION

OTHER#S RP00-21, 002, CNG TRANSMISSION CORPORATION

CAG-13.

DOCKET# RP00-190, 000, VIKING GAS TRANSMISSION COMPANY

CAG-14.

DOCKET# RP00-203, 000, ANR PIPELINE COMPANY

OTHER#S RP00-203, 001, ANR PIPELINE COMPANY

CAG-15.

DOCKET# RP00-209, 000, TRANSCONTINENTAL GAS PIPE LINE CORPORATION

OTHER#S RP00-209, 001, TRANSCONTINENTAL GAS PIPE LINE CORPORATION

CAG-16.

DOCKET# RP00-204, 000, TRANSCONTINENTAL GAS PIPE LINE CORPORATION

OTHER#S RP00-204, 001, TRANSCONTINENTAL GAS PIPE LINE CORPORATION

CAG-17.

DOCKET# RP00-84, 000, KANSAS PIPELINE COMPANY

CAG-18.

DOCKET# RP99-190, 001, NATIONAL FUEL GAS DISTRIBUTION CORPORATION

CAG-19.

DOCKET# RP99-260, 000, EAST TENNESSEE NATURAL GAS COMPANY

OTHER#S RP99-261, 000, EAST TENNESSEE NATURAL GAS COMPANY

RP99-460, 000, EAST TENNESSEE NATURAL GAS COMPANY

RP00-211, 000, EAST TENNESSEE NATURAL GAS COMPANY

CAG-20.

DOCKET# RP00-30, 002, ANR PIPELINE COMPANY

OTHER#S RP00-30, 003, ANR PIPELINE COMPANY

RP00-30, 004, ANR PIPELINE COMPANY

RP00-30, 005, ANR PIPELINE COMPANY

CAG-21.

DOCKET# RP00-154, 001, COLUMBIA GAS TRANSMISSION CORPORATION

CAG-22.

DOCKET# RP00-24, 002, TRANSCONTINENTAL GAS PIPE LINE CORPORATION

OTHER#S RP00-24, 000, TRANSCONTINENTAL GAS PIPE LINE CORPORATION

RP00-24, 001, TRANSCONTINENTAL GAS PIPE LINE CORPORATION

CAG-23.

DOCKET# RP00-128, 002, WILLIAMS GAS PIPELINES CENTRAL, INC.

OTHER#S RP00-128, 001, WILLIAMS GAS PIPELINES CENTRAL, INC.

CAG-24.

DOCKET# RP97-287, 045, EL PASO NATURAL GAS COMPANY

CAG-25.

DOCKET# RP00-168, 000, NORTHWEST PIPELINE CORPORATION V. El PASO NATURAL GAS COMPANY

CAG-26.

DOCKET# RP97-29, 003, PANHANDLE EASTERN PIPE LINE COMPANY

CAG-27.

DOCKET# RP96-275, 005, TENNESSEE GAS PIPELINE COMPANY

CAG-28.

DOCKET# MG00-6, 000, CONSOLIDATED NATURAL GAS COMPANY

CAG-29.

DOCKET# CP99-624, 000, WYOMING INTERSTATE COMPANY, LTD.

CAG-30.

DOCKET# CP99-592, 000, SOUTHWEST GAS TRANSMISSION COMPANY, A LIMITED PARTNERSHIP

CAG-31.

DOCKET# CP98-49, 004, K N WATTENBERG TRANSMISSION LIMITED LIABILITY COMPANY

CAG-32.

DOCKET# CP99-191, 002, NORTHERN NATURAL GAS COMPANY

CAG-33.

DOCKET# CP97-256, 005, K N WATTENBERG TRANSMISSION LIMITED LIABILITY COMPANY

OTHER#S CP97-256, 006, K N WATTENBERG TRANSMISSION LIMITED LIABILITY COMPANY

CAG-34.

DOCKET# CP98-74, 002, ANR PIPELINE COMPANY V. TRANSCONTINENTAL GAS PIPE LINE CORPORATION

OTHER#S CP98-74, 001, ANR PIPELINE COMPANY V. TRANSCONTINENTAL GAS PIPE LINE CORPORATION

CAG-35.

DOCKET# RP95-363, 017, EL PASO NATURAL GAS COMPANY

OTHER#S RP98-407, 001, EL PASO NATURAL GAS COMPANY

RP99-507, 001, AMOCO ENERGY TRADING CORPORATION, AMOCO PRODUCTION COMPANY AND BURLINGTON RESOURCES OIL & GAS COMPANY v. El PASO NATURAL GAS COMPANY

CAG-36.

DOCKET# CP99-604, 000, SOUTHERN NATURAL GAS COMPANY

CAG-37.

DOCKET# CP92-481, 001, NORTHERN ILLINOIS GAS COMPANY

OTHER#S PR93-11, 001, NORTHERN ILLINOIS GAS COMPANY

PR94-16, 001, SOUTHERN CALIFORNIA GAS COMPANY

Hydro Agenda

H-1.

RESERVED

Electric Agenda

E-1.

RESERVED

Oil and Gas Agenda

I.

PIPELINE RATE MATTERS

PR-1.

RESERVED

II.

PIPELINE CERTIFICATE MATTERS

PC-1.

DOCKET# RM99-5, 000, REGULATIONS UNDER THE OUTER CONTINENTAL SHELF LANDS ACT GOVERNING THE MOVEMENT OF NATURAL GAS ON FACILITIES ON THE OUTER CONTINENTAL SHELF

ORDER ON FINAL RULE.

David P. Boergers,
Secretary.

[FR Doc. 00-7670 Filed 3-23-00; 4:58 pm]

BILLING CODE 6717-01-P